CORPORATION FOR NATIONAL AND COMMUNITY SERVICE

Proposed Information Collection; Emergency Comment Request

AGENCY: Corporation for National and Community Service.

ACTION: Notice of information collection.

SUMMARY: The Corporation for National and Community Service, operating as AmeriCorps, has submitted a public information collection request (ICR) entitled AmeriCorps Diversity Questionnaire for review and approval in accordance with the Paperwork Reduction Act.

DATES: Written comments must be submitted to the individual and office listed in the ADDRESSES section by September 23, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Amy Borgstrom, at 202-606-6930 or by email to aborgstrom@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

Because this is an emergency request for comments, no 60-day notice requesting public comment has been published in the Federal Register.

Title of Collection: AmeriCorps Diversity Questionnaire.

OMB Control Number: 3045-0035 Type of Review: New Information Collection.

Respondents/Affected Public: Eligible organizations that are applying for AmeriCorps grants.

Total Estimated Number of Annual Responses: 750.

Total Estimated Number of Annual Burden Hours: 375 hours.

Abstract: The information provided by the survey will enable AmeriCorps to better understand the demographic characteristics of current grantees and potential grantees to further AmeriCorps' efforts to take into account the diversity of communities and participants in its grantmaking. This is a requirement per the American Rescue Plan Act. Additionally, it will enable AmeriCorps to better target training, technical assistance, and outreach to potential grantees with the goal of creating programs that represent and serve the full diversity of our nation's communities.

AmeriCorps is proposing embedding this questionnaire into the existing grant application via the online system, eGrants, as a way to minimize the burden of the collection of the information. The questionnaire will be submitted annually per applicant for funding and estimated time for completion is less than 30 minutes, based on staff testing of the survey. The questionnaire will be submitted electronically as part of the existing AmeriCorps grant application and questions have been crafted for ease of reporting and efficient collection. The questionnaire will be complemented with an in-depth set of grant application instructions. Staff will also be available to provide individualized assistance, if needed.

Dated: August 16, 2021.
Sonali Nijhawan,
Director, AmeriCorps State and National.

[FR Doc. 2021-18200 Filed 8-23-21; 8:45 am]

BILLING CODE 6050-28-P